DEPARTMENT OF THE INTERIOR

Bureau of Indian Affairs

Renewal of Agency Information Collection for Tax Credit Bonds for Bureau of Indian Affairs-Funded Schools; Comment Request

AGENCY: Bureau of Indian Affairs, Interior.

ACTION: Notice of submission to the Office of Management and Budget.

SUMMARY: As required by the Paperwork Reduction Act, the Office of Facilities, Environmental, and Cultural Resources (OFECR), in the Office of the Assistant Secretary—Indian Affairs, is submitting the following information collection to the Office of Management and Budget (OMB) for renewal: “Tax Credit Bonds for Bureau of Indian Affairs-Funded Schools,” OMB Control Number 1076-0173. The current approval expires on April 30, 2010.

DATES: Submit comments on or before June 1, 2010.

ADDRESSES: You may submit comments on the information collection to the Desk Officer for Department of the Interior at the Office of Management and Budget, by facsimile to (202) 395-5806 or you may send an e-mail to: OIRA_DOCKET@omb.eop.gov. Please send a copy of your comments to Bernadette Myers, U.S. Department of the Interior, Office of Facilities, Environmental and Cultural Resources, 2051 Mercator Drive, Reston, Virginia 20191; or e-mail to: Bernadette.Myers@bia.gov.

FOR FURTHER INFORMATION CONTACT: Bernadette Myers (703) 390-6655.

SUPPLEMENTARY INFORMATION:

I. Abstract

This information collection allows OFECR to receive written applications for allocations of the $400,000,000 in Tax Credit Bonding Authority granted to the Secretary as a result of the American Reinvestment and Recovery Act of 2009 (ARRA) of 2009. This bonding authority is for the purpose of the construction, rehabilitation and repair of BIA-funded schools. Indian tribes interested in obtaining an allocation of the bonding authority to finance construction, rehabilitation, or repair of a BIA-funded elementary or secondary school or dormitory must provide certain information as part of the application. The information collection allows OFECR to determine whether the project is eligible to be considered for an allocation. No third party notification or public disclosure burden is associated with this collection. OFECR obtained an emergency approval of this information collection from OMB to allow it to solicit applications for tax credit bonds. See 74 FR 56211 (October 30, 2009). OMB's approval for the information collection expires April 30, 2010. Because the tax credit bond authority extends through calendar year 2010, OFECR is requesting a renewal of the OMB authority to collect information from Indian tribes through applications.

The Paperwork Reduction Act of 1995 provides an opportunity for interested parties to comment on information collection requests. OFECR is proceeding with this public comment period as the first step in obtaining renewal of the information collection clearance from OMB. OFECR has adjusted its estimated number of respondents and responses downward based on its experience during the first six months of collecting this information. Each clearance request contains (1) type of review, (2) title, (3) summary of the collection, (4) respondents, (5) frequency of collection, (6) reporting and record keeping requirements.

II. Request for Comments

If you would like to comment on this information collection, please send your comments to the location listed in the ADDRESSES section. Your comments should address: (a) The necessity of the information collection for the proper performance of the agencies, including whether the information will have practical utility; (b) the accuracy of our estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or conduct and an individual need not respond to a collection of information unless it has a valid OMB Control Number. It is our policy to make all comments available to the public for review at the location listed in the ADDRESSES section during the hours of 9 a.m.-5 p.m., Eastern Time, Monday through Friday except for legal holidays. Before including your address, telephone number, e-mail address or other personally identifiable information, be advised that your entire comment—including your personally identifiable information—may be made public at any time. While you may request that we withhold your personally identifiable information, we cannot guarantee that we will be able to do so.

III. Data

OMB Control Number: 1076-0173.

Type of Review: Extension of a currently approved collection.

Title: Tax Credit Bonds for Bureau of Indian Affairs-Funded Schools.

Brief Description of Collection: Submission of this information is required to apply for allocations of the $400,000,000 in Tax Credit Bonding Authority granted to the Secretary as a result of the ARRA of 2009. This bonding authority is for the purpose of the construction, rehabilitation and repair of BIA-funded schools. The information collection allows BIA to determine whether the project is eligible to be considered for an allocation. No third party notification or public disclosure burden is associated with this collection. Response is required to obtain a benefit.

Respondents: Indian tribal governments.

Number of Respondents: 4.

Estimated Time per Response: 40 hours.

Frequency of Response: Once, on occasion.

Total Annual Burden to Respondents: 160 hours.

Alvin Foster,
Acting Chief Information Officer—Indian Affairs.

[FR Doc. 2010-9882 Filed 4-28-10; 8:45 am]

BILLING CODE 4310-4M-P